DEPARTMENT OF COMMERCE

National Telecommunications and Information Administration

Agency Information Collection Activities; Proposed Information Collection; Comment Request; State and Local Implementation Grant Program 2.0 Reporting Requirements

AGENCY: National Telecommunications and Information Administration.

ACTION: Notice.

SUMMARY: The Department of Commerce, as part of its continuing effort to reduce paperwork and respondent burden, invites the general public and other Federal agencies to take this opportunity to comment on the proposed information collection, as required by the Paperwork Reduction Act of 1995.

DATES: Written comments must be submitted on or before November 14, 2017.

ADDRESSES: Direct all written comments to Jennifer Jessup, Departmental Paperwork Clearance Officer, Department of Commerce, (202) 482-0336, Department of Commerce, Room 6612, 1401 Constitution Avenue NW., Washington, DC 20230 (or via email at PRAcomments@doc.gov).

FOR FURTHER INFORMATION CONTACT: Requests for additional information or copies of the information collection instruments and instructions should be sent to Michael Dame, Program Director, State and Local Implementation Grant Program, National Telecommunications and Information Administration, U.S. Department of Commerce, 1401 Constitution Avenue NW., Room 4078, Washington, DC 20230 (or via email at mdame@ntia.doc.gov).

SUPPLEMENTARY INFORMATION:

I. Abstract

In February 2012, the Middle Class Tax Relief and Job Creation Act of 2012 (Act) was enacted.¹ The Act meets a long-standing national priority and infrastructure need to create a single, interoperable, nationwide public safety broadband network (NPSBN) that allows law enforcement officers, fire fighters, emergency medical service professionals, and other public safety officials to effectively communicate with each other across agencies and jurisdictions. Public safety responders have long been hindered in their ability to respond in a crisis situation because of incompatible communications networks and often outdated communications equipment. Therefore, the design and deployment of this NPSBN established by the Act is critical to provide emergency responders the ability to communicate on a secure, reliable, and dedicated interoperable network during emergencies and to use technology to improve response time, keep communities safe, and save lives.

¹ Middle Class Tax Relief and Job Creation Act of 2012, Public Law 112-96, 126 Stat. 156 (2012) (Act) (codified at 47 U.S.C. 1401 et seq.).

The Act established the First Responder Network Authority (FirstNet) as an independent authority within the National Telecommunications and Information Administration (NTIA) and authorized it to take all actions necessary to ensure the design, construction, and operation of a nationwide NPSBN, based on a single, national network architecture.² FirstNet's responsibilities are, at a minimum, to ensure nationwide standards for the use of and access to the network; issue open, transparent, and competitive requests for proposals (RFPs) to build, operate, and maintain the network; encourage these RFPs to leverage, to the maximum extent economically desirable, existing commercial wireless infrastructure to speed deployment of the network; and oversee contracts with non-federal entities to build, operate, and maintain the network.³

² 47 U.S.C. 1424, 1426(b)(1).

³ 47 U.S.C. 1426(b)(1)(A)-(D).

The Act also charged NTIA with establishing a grant program, the State and Local Implementation Grant Program (SLIGP), to assist state, regional, tribal, and local jurisdictions with identifying, planning, and implementing the most efficient and effective means to use and integrate the infrastructure, equipment, and other architecture associated with the NPSBN to satisfy the wireless broadband and data services needs of their jurisdictions.⁴ NTIA awarded an initial $116.5 million in grant funds to 54 state and territorial recipients between July 2013 and June 2014.

⁴ 47 U.S.C. 1442(a).

The Act's framework contemplates that FirstNet closely coordinates its activities with state, regional, tribal, and local governments and imposed a statutory requirement that FirstNet consult with these entities as it takes all actions necessary to build, deploy, and operate the NPSBN.⁵ Specifically, the Act requires FirstNet to consult with state, regional, tribal, and local governments about the distribution and expenditure of any amounts required to carry out its responsibilities to plan, build, operate, and maintain the NPSBN.

⁵ 47 U.S.C. 1422(b)(2)(B).

Additionally, the Act specifies that these required consultations occur between FirstNet and the single point of contact (SPOC) that the state designated in its original SLIGP grant application.⁶ The original SLIGP award provided recipients needed funding to support their engagement in consultations as required of FirstNet under the Act.

⁶ 47 U.S.C. 1426(c)(2)(B); 47 U.S.C. 1442(d).

SLIGP 2.0

With an available balance of up to $43.4 million from the original SLIGP fund of $116.5 million, NTIA will continue to provide funding through SLIGP 2.0 grants to assist State, regional, tribal, and local jurisdictions to engage effectively with FirstNet and provide it with information needed to continue with planning the NPSBN and the deployment of the Radio Access Network (RAN) in an effective and timely manner, as required by the Act.

To ensure effective grant oversight and management, SLIGP developed a quarterly performance progress report (PPR) form for recipients to complete as part of post-award monitoring throughout the period of performance of the SLIGP 2.0 grant. The PPRs are critical to the success of the program and provide key insights into how grant funds are being used. Recipients are asked to report on progress toward program priority areas, which include, individuals sent to broadband conferences, staff hired, contracts executed, governance meetings held, and stakeholder events convened, as well as financial expenditures by cost category. NTIA seeks Office of Management Budget (OMB) approval of this form. NTIA will use the collection of information to ensure that SLIGP 2.0 grant recipients are effectively monitored and evaluated against the core purposes of the program established by the Act.

II. Method of Collection

Paper format.

III. Data

OMB Control Number: None.

Form Number(s): None.

Type of Review: Regular submission.

Affected Public: State, regional, local and tribal government organizations.

Frequency: Quarterly.

Number of Respondents: 56.

Average Time per Response: 12.5 hours.

Estimated Total Annual Burden Hours: 2,800.

Estimated Total Annual Cost to Public: $121,212.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Sheleen Dumas,
Departmental PRA Lead, Office of the Chief Information Officer.

[FR Doc. 2017-19679 Filed 9-14-17; 8:45 am]

BILLING CODE 3510-60-P